DEFENSE NUCLEAR FACILITIES SAFETY BOARD

Senior Executive Service Performance Review Board

AGENCY: Defense Nuclear Facilities Safety Board.

ACTION: Notice.

SUMMARY: This notice announces the membership of the Defense Nuclear Facilities Safety Board (DNFSB) Senior Executive Service (SES) Performance Review Board (PRB).

DATES: Effective Date: September 21, 2015.

ADDRESSES: Send comments concerning this notice to: Defense Nuclear Facilities Safety Board, 625 Indiana Avenue NW., Suite 700, Washington, DC 20004-2001.

FOR FURTHER INFORMATION CONTACT: Deborah Biscieglia by telephone at (202) 694-7041 or by email at debbieb@dnfsb.gov.

SUPPLEMENTARY INFORMATION: 5 U.S.C. 4314(c)(1) through (5) requires each agency to establish, in accordance with regulations prescribed by the Office of Personnel Management, one or more performance review boards. The PRB shall review and evaluate the initial summary rating of a senior executive's performance, the executive's response, and the higher level official's comments on the initial summary rating. In addition, the PRB will review and recommend executive performance bonuses and pay increases.

The DNFSB is a small, independent Federal agency; therefore, the members of the DNFSB SES PRB listed in this notice are drawn from the SES ranks of other agencies.

The following persons comprise a standing roster to serve as members of the DNFSB SES PRB:

Christopher E. Aiello, Special Advisor to the Chairman and Chief Financial Officer, Federal Deposit Insurance Corporation

David M. Capozzi, Executive Director, United States Access Board

Cedric R. Hendricks, Associate Director, Office of Legislative, Intergovernmental and Public Affairs, Court Services and Offender Supervision Agency

Barry S. Socks, Chief Operating Officer, National Capital Planning Commission

Dr. Michael L. Van Woert, Director, National Science Board Office, National Science Foundation.

Dated: September 15, 2015.
Joyce L. Connery,
Chairman.

[FR Doc. 2015-23538 Filed 9-18-15; 8:45 am]

BILLING CODE 3670-01-P